DEPARTMENT OF THE INTERIOR

National Park Service

AGENCY: National Park Service, Interior.

ACTION: Notice of a meeting for Denali National Park Subsistence Resource Commission.

SUMMARY: The Denali National Park Subsistence Resource Commission (SRC) will meet to develop and continue work on National Park Service (NPS) subsistence hunting program recommendations and other related subsistence management issues. This meeting is open to the public and will have time allocated for public testimony. The public is welcome to present written or oral comments to the SRC. This meeting will be recorded and meeting minutes will be available upon request from the park superintendent for public inspection approximately six weeks after each meeting. The NPS subsistence resource commission program is authorized under Title VIII, Section 808 of the Alaska National Interest Lands Conservation Act, Public Law 96-487, to operate in accordance with the provisions of the Federal Advisory Committee Act.

FOR FURTHER INFORMATION CONTACT: Amy Craver, Subsistence Manager, Tel. (907) 683-9544, Address: Denali National Park and Preserve, P.O. Box 9, Denali National Park, AK 99755 or Clarence Summers, Subsistence Coordinator, Tel. (907) 644-3603.

Proposed Meeting Date: The SRC meeting will be held on Friday, February 27, 2009 from 9 a.m. to 5 p.m.

Location: Denali Dome Home Bed and Breakfast, Healy, AK.

The proposed SRC meeting agenda includes the following:

1. Call to Order by Chair

2. Roll Call and Confirmation of Quorum

3. Superintendent's Welcome and Introductions

4. Approval of Minutes from Last Commission Meeting

5. Additions and Corrections to Draft Agenda

6. Public and Other Agency Comments

7. Old Business

8. New Business

a. Regional Office Update

b. State Game Board Actions on NCPA's Proposals

c. Wildlife Regulatory Timeline for Federal Subsistence Board Actions

d. Project Updates

e. Denali's Subsistence Management Plan

f. Response to letter from the Public

9. NPS Reports and Updates

a. Ranger Division Update

b. Resource Management Program Update Fish and Wildlife Updates

10. Public and Other Agency Comments

11. Set Time and Place of next Denali SRC Meeting

12. Adjournment

SUPPLEMENTARY INFORMATION: SRC meeting location and date may need to be changed based on weather or local circumstances. If meeting date and location are changed, a notice will be published in local newspapers and announced on local radio stations prior to the meeting date. The meeting may end early if all business is completed.

Dated: December 23, 2008.
Sue E. Masica,
Regional Director.

[FR Doc. E9-2040 Filed 1-29-09; 8:45 am]

BILLING CODE 4310-PF-P